ENVIRONMENTAL PROTECTION AGENCY

[EPA-HQ-OPP-2018-0632; FRL-9983-92]

Request for Nominations of Experts To Consider for ad hoc Participation on Federal Insecticide, Fungicide, and Rodenticide Act (FIFRA), Scientific Advisory Panel (SAP)

AGENCY: Environmental Protection Agency (EPA).

ACTION: Notice.

SUMMARY: The EPA requests public nominations of scientific experts to be considered for ad hoc participation on the Federal Insecticide, Fungicide, and Rodenticide Act (FIFRA) Scientific Advisory Panel (SAP) through membership on the Food Quality Protection Act (FQPA) Science Review Board (SRB). All nominees will be considered for ad hoc participation providing independent scientific advice to the EPA on health and safety issues related to pesticides. The FIFRA SAP is comprised of biologists, statisticians, toxicologists and other experts and is assisted in their reviews by members of the FQPA SRB.

DATES: Nominations. Nominations should be provided to the Designated Federal Officer (DFO) listed under FOR FURTHER INFORMATION CONTACT on or before November 13, 2018.

FOR FURTHER INFORMATION CONTACT: Dr. Marquea D. King, DFO, Office of Science Coordination and Policy (7201M), Environmental Protection Agency, 1200 Pennsylvania Ave. NW, Washington, DC 20460-0001; telephone number: (202) 564-3626; email address: king.marquea@epa.gov.

SUPPLEMENTARY INFORMATION:

I. General Information

A. Does this action apply to me?

This action is directed to the public in general. This action may, however, be of interest to those who are or may be required to conduct testing of chemical substances and provide submissions to the EPA under the Federal Food, Drug, and Cosmetic Act (FFDCA) and FIFRA. Since other entities may also be interested, the Agency has not attempted to describe all the specific entities that may be affected by this action.

B. What should I consider as I prepare my nominations for EPA?

1. Submitting CBI. Do not submit CBI information to EPA through regulations.gov or email. If your nomination contains any information that you consider to be CBI or otherwise protected, please contact the DFO listed under FOR FURTHER INFORMATION CONTACT to obtain special instructions before submitting your nomination.

2. Request for nominations to be considered for ad hoc participation on the FIFRA SAP. As part of a broader process for developing a pool of experts known as the Food Quality Protection Act (FQPA) Science Review Board (SRB), Office of Science Coordination and Policy (OSCP) staff solicits the public and stakeholder communities nominations of prospective candidates for service as ad hoc participants on FIFRA SAP reviews. Any interested person or organization may nominate qualified individuals to be considered as prospective candidates. Individuals may self-nominate. Individuals nominated should have expertise in one or more of the following areas: Biochemistry; chemistry; epidemiology; human health risk assessment; pathology; PBPK modeling; aquatic modeling; pharmacology; ecological risk assessment; environmental exposure and fate; environmental toxicology; occupational, consumer, and general exposure assessment; toxicology; dose response modeling; environmental engineering; statistics; water quality monitoring; hydrologist; GIS specialist; computational toxicology; entomology; veterinary entomology; medical entomology, insect ecology, allergenicity, research veterinarian; inhalation toxicology; volatile organics; endocrinology, alternative testing methods, high throughput testing approaches, adverse outcome pathways, cross species extrapolation, and systematic review. Nominees should be scientists who have sufficient professional qualifications, including training and experience, and can provide expert comments on the pesticide health and safety related issues for a FIFRA SAP meeting. Nominees should be identified by name, occupation, position, address, email address, and telephone number. Nominations should be provided to the DFO listed under FOR FURTHER INFORMATION CONTACT on or before November 13, 2018. The Agency will consider all nominations of prospective candidates for service as ad hoc participants on the FIFRA SAP that are received on or before that date. However, final selection of ad hoc participants is at the discretion of the Agency.

The selection of scientists to serve as ad hoc participants of the FIFRA SAP is based on the function of the Panel and the expertise needed to address the Agency's charge to the Panel. No interested scientists shall be ineligible to serve by reason of their membership on any other advisory committee to a Federal department or agency or their employment by a Federal department or agency, except EPA. Other factors considered during the selection process include availability of the prospective candidate to fully participate in the Panel's reviews, absence of any conflicts of interest or appearance of loss of impartiality, independence with respect to the matters under review, and lack of bias. Although financial conflicts of interest, the appearance of loss of impartiality, lack of independence, and bias may result in disqualification, the absence of such concerns does not assure that a candidate will be selected to serve on FIFRA SAP. Often, numerous available and qualified candidates are identified for ad hoc participation. Therefore, selection decisions involve carefully weighing a number of factors including the candidates' areas of expertise and professional qualifications and achieving an overall balance of different scientific perspectives on the Panel.

FIFRA SAP members are subject to the provisions of 5 CFR part 2634—Executive Branch Financial Disclosure, Qualified Trusts, and Certificates of Divestiture, as supplemented by EPA in 5 CFR part 6401. In anticipation of this requirement, prospective candidates for service on FIFRA SAP will be asked to submit confidential financial information which shall fully disclose, among other financial interests, the candidate's employment, stocks and bonds, and where applicable, sources of research support. EPA will evaluate the candidates' financial disclosure forms to assess whether there are financial conflicts of interest, appearance of a loss of impartiality, or any prior involvement with the development of the documents under consideration (including previous scientific peer review) before the candidate is considered further for service on FIFRA SAP. Those who are selected from the pool of prospective candidates will be asked to attend the public meetings and to participate in the discussion of key issues and assumptions at these meetings. In addition, they will be asked to review and to help finalize the meeting minutes. The list of ad hoc participants and FIFRA SAP members participating at each meeting will be posted on the FIFRA SAP website at http://www.epa.gov/sap or may be obtained from the OPP Docket at http://www.regulations.gov.

II. Background

A. Purpose of FIFRA SAP

The Federal Insecticide, Fungicide, and Rodenticide Act, Scientific Advisory Panel (FIFRA SAP) serves as a primary scientific peer review mechanism of EPA's Office of Chemical Safety and Pollution Prevention (OCSPP) and is structured to provide scientific advice, information and recommendations to the EPA Administrator on pesticides and pesticide-related issues as to the impact of regulatory actions on health and the environment. FIFRA SAP is a Federal advisory committee established in 1975 under FIFRA that operates in accordance with requirements of the Federal Advisory Committee Act (5 U.S.C. Appendix). FIFRA SAP is composed of a permanent panel consisting of seven members who are appointed by the EPA Administrator from nominees provided by the National Institutes of Health and the National Science Foundation. The FIFRA SAP is assisted in their reviews by ad hoc participation from members of the Food Quality Protection Act (FQPA) Science Review Board (SRB). As a scientific peer review mechanism, FIFRA SAP provides comments, evaluations, and recommendations to improve the effectiveness and quality of analyses made by Agency scientists. The FIFRA SAP is not required to reach consensus in its recommendations to the Agency but consensus is a preferred outcome and possible under FACA.

At this time, EPA is seeking nominations to augment the FQPA SRB, a pool of experts who can be available to the SAP on an ad hoc basis to assist in peer reviews conducted by the Panel. EPA anticipates selecting experts from this pool, as needed, to assist the SAP in their peer review of EPA's issues related to the health and safety of pesticides.

Authority: 15 U.S.C. 2625 et seq.; 5 U.S.C. Appendix 2 et seq.

Dated: September 19, 2018.
Stanley Barone Jr.,
Acting Director, Office of Science Coordination and Policy.

[FR Doc. 2018-21196 Filed 9-27-18; 8:45 am]

BILLING CODE 6560-50-P